DEPARTMENT OF STATE

[Public Notice: 9725]

U.S. National Commission for UNESCO Notice of Teleconference Meeting

The U.S. National Commission for UNESCO (“Commission”) will hold a conference call on Tuesday, October 11, 2016, from 1:00 p.m. until 2:00 p.m. Eastern Daylight Time. The purpose of the teleconference meeting is to consider the recommendations of the Commission's World Heritage Subcommittee. The Subcommittee was asked to provide recommendations of sites for consideration to be listed on the U.S. World Heritage Tentative List. This list will be the basis for U.S. nominations for inscription onto UNESCO's World Heritage List. The recommendations resulting from this discussion will be forwarded from the Department of State to the Department of the Interior. More information on the World Heritage Tentative List process can be found at https://www.nps.gov/subjects/internationalcooperation/revised_tentative_list.htm. The Commission will accept brief oral comments during a portion of this conference call. The public comment period will be limited to approximately 20 minutes in total, with two minutes allowed per speaker. Please note that there might be an opportunity for extended comments later if the Department of the Interior posts draft tentative sites in the Federal Register. For more information, or to arrange to participate in the conference call, individuals must make arrangements with the Executive Director of the National Commission by October 7, 2016.

The National Commission may be contacted via email at DCUNESCO@state.gov or Telephone (202) 663-2685; Fax (202) 663-3194. The Web site can be accessed at: http://www.state.gov/p/io/unesco/.

Dated: September 13, 2016.
Allison Wright,
Executive Director, U.S. National Commission, for UNESCO, Department of State.

[FR Doc. 2016-22505 Filed 9-16-16; 8:45 am]

BILLING CODE 4710-19-P